DEPARTMENT OF LABOR

Employment and Training Administration

[TA-W-53,996]

Eljer Plumbingware, Salem, Ohio; Notice of Termination of Investigation

Pursuant to section 221 of the Trade Act of 1974, as amended, an investigation was initiated on January 13, 2004 in response to a petition filed by a company official on behalf of workers at Eljer Plumbingware, Salem, Ohio.

The petitioner has requested that the petition be withdrawn. Consequently, the investigation has been terminated.

Signed at Washington, DC, this 23rd day of January, 2004.
Linda G. Poole,
Certifying Officer, Division of Trade Adjustment Assistance.

[FR Doc. 04-3322 Filed 2-13-04; 8:45 am]

BILLING CODE 4510-30-P